DEPARTMENT OF ENERGY

Federal Energy Regulatory Commission

Notice of Intent To File an Application for a New License

December 18, 2001.

a. Type of filing: Notice of Intent to File An Application for a New License.

b. Project No.: 82.

c. Date filed: November 19, 2001.

d. Submitted by: Alabama Power Company—current licensee.

e. Name of project: Mitchell Hydroelectric Project.

f. Location: On the Coosa River in Chilton and Coosa Counties, Alabama. The project does not occupy federal lands.

g. Filed pursuant to: Section 15 of the Federal Power Act.

h. Licensee contact: Jim Crew, JFCREW@southernco,com, (205) 257-4265, or Barry Lovett, BKLOVETT@southernco.com, (205) 257-1268.

i. FERC contact: Ron McKitrick, ronald.mckitrick@ferc.fed.us, (770) 452-3778.

j. Effective date of current license: November 1, 1975.

k. Expiration date of current license: July 31, 2007.

l. Description of the project: The project consists of the following existing facilities: (1) The Mitchell Dam consisting of: (a) a 964-foot-long concrete spillway section equipped with twenty-three 30-foot-wide by 15-foot-high timber-faced radial gates and three 30-foot-wide by 25-foot-high steel gates; (b) a 449-foot-long west embankment; (2) the 5,850-acre Mitchell Lake with a normal water surface elevation of 312 feet msl; (3) the original powerhouse containing one generating unit with an installed capacity of 20 MW; (4) a new powerhouse containing three generating units with an installed capacity of 150 MW; (5) four 115-kV transmission lines; and (6) other appurtenances.

m. Each application for a new license and any competing license applications must be filed with the Commission at least 24 months prior to the expiration of the existing license. All applications for license for this project must be filed by July 31, 2005.

Linwood A. Watson, Jr.,
Acting Secretary.

[FR Doc. 01-31595 Filed 12-21-01; 8:45 am]

BILLING CODE 6717-01-P